DEPARTMENT OF THE INTERIOR

Bureau of Land Management

[CACA 53257, LLCAD06800 L17110000 FD0000]

Notice of Intent To Prepare a Draft Environmental Impact Statement for a Proposed Land Exchange Between the Bureau of Land Management and Agua Caliente Band of Cahuilla Indians in the Santa Rosa and San Jacinto Mountains National Monument, Riverside County, CA

AGENCY: Bureau of Land Management, Interior.

ACTION: Notice of intent.

SUMMARY: In compliance with the National Environmental Policy Act of 1969 (NEPA), as amended, and the Federal Land Policy and Management Act of 1976 (FLPMA), as amended, the Bureau of Land Management (BLM) Palm Springs-South Coast Field Office intends to prepare a Draft Environmental Impact Statement (EIS) for a proposed land exchange between the BLM and the Agua Caliente Band of Cahuilla Indians (Tribe) in the Santa Rosa and San Jacinto Mountains National Monument (Monument). This notice announces the beginning of the BLM scoping process, invites public participation, and describes how the time and place of public scoping meetings will be announced.

DATES: One or more public scoping meetings will be held in Palm Springs, California, to solicit public input on the issues and impacts that will be addressed in the Draft EIS as well as the extent to which those issues and impacts will be analyzed. All public scoping meetings will be announced at least 15 days in advance of their occurrence through local news media and the BLM Web site at http://www.blm.gov/ca/st/en/fo/palmsprings.html. In order to be addressed in the Draft EIS, all comments must be received no later than 30 days after the last public scoping meeting. Additional opportunities for public participation and formal comment will occur upon publication of the Draft EIS.

ADDRESSES: You may submit written comments on issues and impacts to be addressed in the Draft EIS by any of the following methods:

• Email: AguaCalienteExchange@blm.gov.

• Mail: Field Manager, Palm Springs-South Coast Field Office, 1201 Bird Center Drive, Palm Springs, California 92262.

Documents pertinent to this proposed land exchange will be available for public review at the BLM Palm Springs-South Coast Field Office located at 1201 Bird Center Drive, Palm Springs, California, during regular business hours of 8 a.m. to 4:30 p.m., Monday through Friday, except holidays, and may be published as part of the EIS.

FOR FURTHER INFORMATION CONTACT: For further information and/or to have your name added to our mailing list, contact Jim Foote, National Monument Manager, (760) 833-7136, or by email, jfoote@blm.gov.

SUPPLEMENTARY INFORMATION: On October 24, 2000, Public Law 106-351 established the Santa Rosa and San Jacinto Mountains National Monument. In accordance with section 2(b) of the Monument's enabling legislation, its purpose is to “preserve the nationally significant biological, cultural, recreational, geological, educational, and scientific values found in the Santa Rosa and San Jacinto Mountains and to secure now and for future generations the opportunity to experience and enjoy the magnificent vistas, wildlife, land forms, and natural and cultural resources in these mountains and to recreate therein.”

On October 13, 1999, the BLM and the Tribe entered into an agreement to coordinate and cooperate in the management of Federal lands within and outside the boundaries of the Agua Caliente Indian Reservation (Reservation) within the Monument. The BLM and the Tribe agreed to meet annually to identify specific resource management, land tenure adjustment, and joint management goals, including implementation of a Memorandum of Understanding for joint identification of opportunities for acquisition and exchange of lands within the Monument.

On July 27, 2010, the BLM released Environmental Assessment (EA) No. CA-060-0010-0005 and Finding of No Significant Impact for public review and comment. This EA addressed the environmental effects of the proposed land exchange between the BLM and the Tribe. The public comment period for the EA concluded on November 19, 2010; 141 individuals, eight organizations, and three governmental entities submitted comments.

Based on public comments and upon further internal review, it was determined that preparation of an EIS is necessary to address potentially significant effects of this proposed exchange. Information in the EA will be integrated into the Draft EIS.

Public scoping will help determine relevant issues that will influence the scope of the environmental analysis, including alternatives, and guide development of the EIS. At present, the BLM has identified potential effects of the proposed land exchange on cultural resources, Native American concerns, minerals, threatened and endangered species, invasive species, wild and scenic rivers, and non-motorized recreation access as preliminary issues for analysis.

All public comments submitted to the BLM about the EA released on July 27, 2010, will be retained, used to formulate alternatives and environmental analyses for the Draft EIS, and responded to in the Draft EIS. Before including your address, phone number, email address, or other personal identifying information in your comment, you should be aware that your entire comment—including your personal identifying information—may be made publicly available at any time. While you can request that your personal identifying information be withheld from public review, there is no guarantee that we will be able to do so.

Jim Foote,
Acting Field Manager, Palm Springs-South Coast Field Office, California Desert District, Bureau of Land Management.

Authority: 43 U.S.C. 1701 et seq., 43 U.S.C. 1715-1716, 16 U.S.C. 431 note.

40 CFR 1507.7, 1508.22, and 43 CFR Subpart 2200.

[FR Doc. 2012-3118 Filed 2-9-12; 8:45 am]

BILLING CODE 4310-40-P